NATIONAL AERONAUTICS AND SPACE ADMINISTRATION

[NOTICE: 21-042]

Government-Owned Inventions, Available for Licensing

AGENCY: National Aeronautics and Space Administration.

ACTION: Notice of availability of inventions for licensing.

SUMMARY: Patent applications on the inventions listed below assigned to the National Aeronautics and Space Administration have been filed in the United States Patent and Trademark Office under the Patent Cooperation Treaty and are available for licensing as listed in SUPPLEMENTARY INFORMATION below.

FOR FURTHER INFORMATION CONTACT: Written applications for licensing of the invention or requests for further information may be submitted to the Licensing Administrator, NASA Johnson Space Center, Technology Transfer Office, Email: Agency-Patent-Licensing@mail.nasa.gov. Questions may be directed to Phone: 202-358-7432.

SUPPLEMENTARY INFORMATION: The following application filed in the United States Patent and Trademark Office under the Patent Cooperation Treaty is available for licensing:

NASA Case No.: MSC-26813-1-PCT, Human-Powered Ventilator

The patent rights in this invention has been assigned to the United States of America as represented by the Administrator of the National Aeronautics and Space Administration. Any prospective license will comply with the requirements of 35 U.S.C. 209 and 37 CFR part 404.

Information about other NASA inventions available for licensing can be found online at http://technology.nasa.gov.

Helen M. Galus,
Agency Counsel for Intellectual Property.

[FR Doc. 2021-13855 Filed 6-28-21; 8:45 am]

BILLING CODE 7510-13-P